DEPARTMENT OF TRANSPORTATION

Research and Special Programs Administration

49 CFR Part 192

[Docket No. RSPA-00-7666; Notice 7]

RIN 2137-AD54

Pipeline Safety: Pipeline Integrity Management in High Consequence Areas (Gas Transmission Pipelines)

AGENCY: Office of Pipeline Safety (OPS), Research and Special Programs Administration (RSPA), DOT.

ACTION: Notice of public meeting.

SUMMARY: This notice announces a one-day public meeting to solicit comments on issues raised at a recent meeting of the Technical Pipeline Safety Standards Committee (TPSSC), at a public meeting OPS held on March 14, 2003, and at a public workshop held February 21-22, 2003, which was jointly organized by the Interstate Natural Gas Association of America (INGAA) Foundation and the American Gas Association (AGA). At this meeting we intend to present the issues for comment and to question further those offering comments to assure that we completely understand each issue.

ADDRESSES: The meeting is open to all. There is no cost to attend. This meeting will be held on Friday, April 25, 2003, from 8 a.m. to 4 p.m. at the Marriott at Washington Dulles Airport, 4520 Aviation Drive, Dulles, VA 20166. Tel: 703-471-9500; Web site: http://www.marriott.com. You may register electronically for this meeting at: http://primis.rspa.dot.gov/meetings. Please make your reservations as soon as possible as hotel rooms are limited. For other details on this meeting contact Juan Carlos at 202-366-1933.

You may submit written comments by mail or delivery to the Dockets Facility, U.S. Department of Transportation, Room PL-401, 400 Seventh Street, SW., Washington, DC 20590-0001. The dockets facility is open from 10 a.m. to 5 p.m., Monday through Friday, except on Federal holidays. You should submit the original and one copy. Anyone who wants confirmation of receipt of their comments must include a stamped, self-addressed postcard. You may also submit comments to the docket electronically. To do so, log on to the Internet Web address http://dms.dot.gov. And click on “Help” for instructions on electronic filing of comments. All written comments should identify the docket number RSPA-00-7666; Notice 7.

Anyone is able to search the electronic form of all comments received into any of our dockets by the name of the individual submitting the comments (or signing the comments, if submitted on behalf of an association, business, labor union, etc.). You may review the U.S. Department of Transportation's complete Privacy Act Statement in the Federal Register published on April 11, 2000, (65 FR 19477-78) or you may visit http://dms.dot.gov.

FOR FURTHER INFORMATION CONTACT: Jean Milam at (202) 493-0967 or Jenny Donohue at (202) 366-4046, regarding this document. General information about RSPA/OPS programs may be obtained by accessing RSPA's Internet page at http://rspa.dot.gov.

Information on Services for Individuals With Disabilities: For information on facilities or services for individuals with disabilities or to request special assistance, contact Juan Carlos, (202) 366-1933.

SUPPLEMENTARY INFORMATION:

Background

To better prevent pipeline failures that can imperil the health and safety of nearby residents and cause significant damage to their property, RSPA/OPS is promulgating a series of rules to require pipeline operators to develop integrity management programs. These programs are intended to identify the best methods for maintaining the structural soundness of pipelines operating across the United States. The programs operators develop are to include conducting baseline and periodic assessments of certain pipeline segments. RSPA/OPS has completed the integrity management program rules for hazardous liquid operators and is now addressing the requirements for natural gas transmission pipeline operators. RSPA/OPS proposed a rule on integrity management program requirements on January 28, 2003, (68 FR 4278).

The proposed rule has been discussed at a meeting of the Technical Pipeline Safety Standards Committee (TPSSC) on March 27, 2003, at a public meeting OPS held in Washington, DC, on March 14, 2003, and at a workshop jointly organized by the Interstate Natural Gas Association of America (INGAA) Foundation and the American Gas Association (AGA) held in Houston, TX, on February 21-22, 2003. Discussions from the public meeting and the workshop are in the docket. Several issues were raised during these discussions that OPS/RSPA would like to explore further. RSPA/OPS is holding the April public meeting to present the issues for comment and to question further those offering comments to assure that we completely understand each issue.

The preliminary agenda for the April meeting includes the following questions for discussion:

Assessment

Low Stress Pipelines

Should assessment requirements for low-stress pipeline (i.e., operating at less than 30 percent SMYS) allow use of confirmatory direct assessment (CDA) for all assessments (baseline and reassessments)?

Pressure Testing

Should the requirement to pressure test pipelines to verify integrity against material and construction defects be limited to pipeline segments for which information suggests a potential vulnerability to such defects? If so, what information should be relied upon?

Direct Assessment Equivalency

Should the assessment intervals for direct assessment be revised to be the same as those applicable to in-line inspection or pressure testing? Are there opportunities to quickly schedule and assess research demonstrations to provide additional data on which to base judgments about validity?

Plastic Transmission Lines

What assessment requirements should be applicable to plastic transmission pipelines?

Repairs

Dents and Gouges

Should a repair criteria for constraint dents on the bottom of the pipe be different from that allowed for dents located on the top? Should the presence of stress risers, cracking or metal loss affect this decision?

Preventive and Mitigation Measures

Third Party Damage

Should additional third-party damage prevention methods be utilized instead of explicit assessments for third-party damage? What methods should be used in conjunction with other assessment methods to detect delayed third party damage?

Segments Outside HCAs

How can the requirements be clarified for the situations when an operator should look beyond the segment in a high consequence area, when segments outside the HCA are likely to have similar integrity concerns as those found inside an HCA?

Performance Measures

Should we require monthly electronic reporting of performance measures?

Definitions

High Consequence Area—Bifurcation Option

Should a rule allow two options: following the definition of high consequence areas defined by final rule on August 6, 2002; (67 FR 50824) or using potential impact circles along the entire length of the pipeline? Under either option, an operator would calculate the potential impact circles for each segment, but the use of those circles would differ depending on the option. If the operator used the class location component of the high consequence area definition, the operator would treat entire class 3 and 4 areas as high consequence areas and use the potential impact circles to determine population density beyond 660 feet using specified number of buildings intended for human occupancy. Under the potential impact circle option, operators would use the circles to identify areas where the density of buildings intended for human occupancy exceeds a specified number and then focus the integrity assessments, repairs and other protections in these areas.

Requirements for how an operator treats identified sites that are defined in the high consequence area would not change under either option.

Population Threshold

Should the criterion for determining the population density component of a high consequence area be based on 10 or 20 buildings intended for human occupancy within the impact circle?

Impact Radius Safety Margin

Should additional safety margin be applied to the potential impact circle radius calculated using the C-FER equation?

Extrapolation

Should a rule allow an operator to use data regarding the number of buildings within 660 feet of the pipeline (available now to operators because of the existing definition of class locations) to infer (extrapolate) the building density in potential impact circles larger than 660 feet? Should this be limited to an interim period of five years to allow operators to collect additional data on buildings beyond 660 feet?

Issued in Washington, DC, on April 7, 2003.
Stacey L. Gerard,
Associate Administrator for Pipeline Safety.

[FR Doc. 03-8814 Filed 4-9-03; 8:45 am]

BILLING CODE 4910-60-P